DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by August 26, 2024. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Agricultural Labor Survey.

OMB Control Number: 0535-0109.

Summary of Collection: The 1938 Agricultural Adjustment Act, as amended, requires USDA to compute parity prices of farm products. This computation uses an index of Prices Paid by Farmers which in turn is composed of five indexes, one of which is an index of wage rates. These estimates measure actual agricultural wage rates and the year-to-year changes. General authority for these data collection activities is granted under U.S. Code Title 7, Section 2204. Agricultural labor statistics are an integral part of National Agricultural Statistics Service (NASS) primary function of collecting, processing, and disseminating current state, regional, and national agricultural statistics. Comprehensive and reliable agricultural labor data are also needed by the Department of Labor in the administration of the “H-2A” program (non-immigrants who enter the United States for temporary or seasonal agricultural labor) and for setting “Adverse Effect Wage Rates.” The Agricultural Labor Survey is the only timely and reliable source of information on the size of the farm worker population. NASS will collect information using a survey. There is an increase in burden due to an additional mailing nation-wide to increase response and NASS having to collect data for the Agricultural Labor Survey in California due to the discontinuation of a data collection arrangement with the California Employment Development Department (EDD).

Need and Use of the Information: Agricultural labor statistics are an integral part of the primary function of the National Agricultural Statistics Service (NASS), which is the collection, processing, and dissemination of current State, regional, and national agricultural statistics. Wage rate estimates have been published since 1866 and U.S. farm employment estimates have been published since 1910. The information is used by farm worker organizations to help set wage rates and negotiate labor contracts as well as determine the need for additional workers and to help ensure federal assistance for farm worker assistance programs supported with government funding.

Description of Respondents: Farms; Business or other for-profit.

Number of Respondents: 20,050.

Frequency of Responses Reporting: Biannually.

Total Burden Hours 23,140.

Levi S. Harrell,
Departmental Information Collection Clearance Officer.

[FR Doc. 2024-16366 Filed 7-24-24; 8:45 am]

BILLING CODE 3410-20-P